NUCLEAR REGULATORY COMMISSION

[NRC-2016-0040]

Biweekly Notice: Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from February 2, 2016, to February 12, 2016. The last biweekly notice was published on February 16, 2016.

DATES: Comments must be filed by March 31, 2016. A request for a hearing must be filed by May 2, 2016.

ADDRESSES: You may submit comments by any of the following methods (unless this document describes a different method for submitting comments on a specific subject):

• Federal Rulemaking Web site: Go to http://www.regulations.gov and search for Docket ID NRC-2016-0040. Address questions about NRC dockets to Carol Gallagher; telephone: 301-415-3463; email: Carol.Gallagher@nrc.gov.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Janet Burkhardt, Office of Nuclear Reactor Regulation, U.S. Nuclear Regulatory Commission, Washington DC 20555-0001; telephone: 301-415-1384, email: Janet.Burkhardt@nrc.gov.

SUPPLEMENTARY INFORMATION:

I. Obtaining Information and Submitting Comments

A. Obtaining Information

Please refer to Docket ID NRC-2016-0040 when contacting the NRC about the availability of information for this action. You may obtain publicly-available information related to this action by any of the following methods:

• Federal Rulemaking Web site: Go to http://www.regulations.gov and search for Docket ID NRC-2016-0040.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2016-0040, facility name, unit number(s), application date, and subject in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing with respect to resolution of that person's admitted contentions, including the opportunity to present evidence and to submit a cross-examination plan for cross-examination of witnesses, consistent with NRC regulations, policies and procedures.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission by May 2, 2016. The petition must be filed in accordance with the filing instructions in the “Electronic Submissions (E-Filing)” section of this document, and should meet the requirements for petitions for leave to intervene set forth in this section, except that under § 2.309(h)(2) a State, local governmental body, or Federally-recognized Indian Tribe, or agency thereof does not need to address the standing requirements in 10 CFR 2.309(d) if the facility is located within its boundaries. A State, local governmental body, Federally-recognized Indian Tribe, or agency thereof may also have the opportunity to participate under 10 CFR 2.315(c).

If a hearing is granted, any person who does not wish, or is not qualified, to become a party to the proceeding may, in the discretion of the presiding officer, be permitted to make a limited appearance pursuant to the provisions of 10 CFR 2.315(a). A person making a limited appearance may make an oral or written statement of position on the issues, but may not otherwise participate in the proceeding. A limited appearance may be made at any session of the hearing or at any prehearing conference, subject to the limits and conditions as may be imposed by the presiding officer. Persons desiring to make a limited appearance are requested to inform the Secretary of the Commission by May 2, 2016.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Duke Energy Progress, Inc., Docket No. 50-261, H. B. Robinson Steam Electric Plant, Unit No. 2 (HBRSEP2), Darlington County, South Carolina

Date of amendment request: November 2, 2015, as supplemented by letter dated December 22, 2015. Publicly-available versions are in ADAMS under Accession Nos. ML15307A069 and ML15356A481, respectively.

Description of amendment request: The proposed amendment would revise the reactor coolant system (RCS) pressure and temperature (P/T) limits by replacing Technical Specification (TS) Section 3.4.3, “RCS Pressure and Temperature (P/T) Limits,” Figures 3.4.3-1 and 3.4.3-2, with figures that are applicable up to 50 effective full power years (EFPY).

Basis for proposed no significant hazards consideration determination: As required by 10 CFR 50.91(a), the licensee has provided its analysis of the issue of no significant hazards consideration, which is presented below:

1. Does the proposed license amendment involve a significant increase in the probability or consequences of an accident previously evaluated?

Response: No.

The proposed RCS P/T limits are based on NRC-approved methodology and will continue to maintain appropriate limits for the HBRSEP2 RCS up to 50 EFPY. These changes provide appropriate limits for pressure and temperature during heatup and cooldown of the RCS, thus ensuring that the probability of RCS failure is maintained acceptably low. These limits are not directly related to the consequences of accidents.

Therefore, the proposed amendment does not result in an increase in the probability or consequences of an accident previously evaluated.

2. Does the Proposed Change Create the Possibility of a New or Different Kind of Accident From Any Accident Previously Evaluated?

Response: No.

The proposed changes will continue to ensure that the RCS will be maintained within appropriate pressure and temperature limits during heatup and cooldown. No physical changes to the HBRSEP2 systems, structures, or components are being implemented. There are no new or different accident initiators or sequences being created by the proposed Technical Specifications changes.

Therefore, these changes do not create the possibility of a new or different kind of accident from any accident previously evaluated.

3. Does the Proposed Change Involve a Significant Reduction in a Margin of Safety?

Response: No.

The proposed changes ensure that the margin of safety for the fission product barriers protected by these functions will continue to be maintained. This conclusion is based on use of the applicable NRC-approved methodology for developing and establishing the proposed RCS P/T limits.

Therefore, these changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: Lara S. Nichols, Deputy General Counsel, Duke Energy Corporation, 550 South Tyron Street, Mail Code DEC45A, Charlotte, NC, 28202.

NRC Branch Chief: Benjamin G. Beasley.

Entergy Nuclear Operations, Inc. (ENO), Docket No. 50-333, James A. FitzPatrick Nuclear Power Plant (JAF), Oswego County, New York

Date of amendment request: January 15, 2016. A publicly-available version is in ADAMS under Accession No. ML16015A456.

Description of amendment request: The licensee has provided a formal notification to the NRC of the intention to permanently cease power operations of JAF at the end of the current operating cycle. Once certifications for permanent cessation of operation and permanent removal of fuel from the reactor are submitted to the NRC, certain staffing and training Technical Specifications (TSs) administrative controls will no longer be applicable or appropriate for the permanently defueled condition. Therefore, ENO is requesting approval of changes to the staffing and training requirements in Section 5.0, Administrative Controls, of the JAF TSs. Specifically, the amendment would revise and remove certain requirements in TS Sections 5.1, “Responsibility,” 5.2, “Organization,” and 5.3, “Plant Staff Qualifications.” The proposed amendment would not be effective until the certification of permanent cessation of operation and certification of permanent removal of fuel from the reactor vessel are submitted to the NRC.

Basis for proposed no significant hazards consideration determination: As required by 10 CFR 50.91(a), the licensee has provided its analysis of the issue of no significant hazards consideration, with NRC staff revisions provided in [brackets], which is presented below:

1. Does the proposed amendment involve a significant increase in the probability or consequences of an accident previously evaluated?

Response: No.

The proposed amendment would not take effect until JAF has permanently ceased operation and entered a permanently defueled condition. The proposed amendment would modify the JAF TS by deleting the portions of the TS that are no longer applicable to a permanently defueled facility, while modifying the other sections to correspond to the permanently defueled condition.

The deletion and modification of provisions of the administrative controls do not directly affect the design of structures, systems, and components (SSCs) necessary for safe storage of irradiated fuel or the methods used for handling and storage of such fuel in the fuel pool. The changes to the administrative controls are administrative in nature and do not affect any accidents applicable to the safe management of irradiated fuel or the permanently shutdown and defueled condition of the reactor.

In a permanently defueled condition, the only credible accident is the fuel handling accident [(FHA)].

The probability of occurrence of previously evaluated accidents is not increased, since extended operation in a defueled condition will be the only operation allowed, and therefore bounded by the existing analyses. Additionally, the occurrence of postulated accidents associated with reactor operation is no longer credible in a permanently defueled reactor. This significantly reduces the scope of applicable accidents.

Therefore, the proposed amendment does not result in a significant increase in the probability or consequences of an accident previously evaluated.

2. Does the proposed amendment create the possibility of a new or different kind of accident from any accident previously evaluated?

Response: No.

The proposed changes have no impact on facility SSCs affecting the safe storage of irradiated fuel, or on the methods of operation of such SSCs, or on the handling and storage of irradiated fuel itself. The administrative removal of or modifications of the TS that are related only to administration of facility cannot result in different or more adverse failure modes or accidents than previously evaluated because the reactor will be permanently shutdown and defueled and JAF will no longer be authorized to operate the reactor.

The proposed deletion of requirements of the JAF TS do not affect systems credited in the accident analysis for the [FHA] at JAF. The proposed TS will continue to require proper control and monitoring of safety significant parameters and activities.

The proposed amendment does not result in any new mechanisms that could initiate damage to the remaining relevant safety barriers for defueled plants (fuel cladding and spent fuel cooling). Since extended operation in a defueled condition will be the only operation allowed, and therefore bounded by the existing analyses, such a condition does not create the possibility of a new or different kind of accident.

Therefore, the proposed change does not create the possibility of a new or different kind of accident from any previously evaluated.

3. Does the proposed amendment involve a significant reduction in a margin of safety?

Response: No.

Because the 10 CFR part 50 license for JAF will no longer authorize operation of the reactor or emplacement or retention of fuel into the reactor vessel once the certifications required by 10 CFR 50.82(a)(1) are submitted, as specified in 10 CFR 50.82(a)(2), the occurrence of postulated accidents associated with reactor operation is no longer credible. The only remaining credible accident is a [FHA]. The proposed amendment does not adversely affect the inputs or assumptions of any of the design basis analyses that impact the FHA.

The proposed changes are limited to those portions of the [TS] that are not related to the safe storage of irradiated fuel. The requirements that are proposed to be revised or deleted from the JAF [TS] are not credited in the existing accident analysis for the remaining applicable postulated accident; and as such, do not contribute to the margin of safety associated with the accident analysis. Postulated DBAs [Design Basis Accidents] involving the reactor are no longer possible because the reactor will be permanently shutdown and defueled and JAF will no longer be authorized to operate the reactor.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Jeanne Cho, Assistant General Counsel, Entergy Nuclear Operations, Inc., 440 Hamilton Avenue, White Plains, NY 10601.

NRC Branch Chief: Travis L. Tate.

Entergy Operations, Inc., System Energy Resources, Inc., South Mississippi Electric Power Association, and Entergy Mississippi, Inc., Docket No. 50-416, Grand Gulf Nuclear Station, Unit 1 (GGNS), Claiborne County, Mississippi

Date of amendment request: September 15, 2015. A publicly-available version is in ADAMS under Accession No. ML15259A042.

Description of amendment request: The amendment would revise the GGNS Technical Specifications (TSs) to eliminate the “Inservice Testing [IST] Program,” specification in Section 5.5, “Programs and Manuals,” which is superseded by Code Case OMN-20. A new defined term, “Inservice Testing Program,” would be added to TS Section 1.1, “Definitions.” This request is consistent with TS Task Force (TSTF)-545, Revision 1, “TS Inservice Testing Program Removal & Clarify SR [Surveillance Requirement] Usage Rule Application to Section 5.5 Testing.”

Basis for proposed no significant hazards consideration determination: As required by 10 CFR 50.91(a), the licensee has provided its analysis of the issue of no significant hazards consideration, which is presented below, with NRC edits in [brackets]:

1. Does the proposed change involve a significant increase in the probability or consequences of an accident previously evaluated?

Response: No.

The proposed change revises TS Chapter 5, “Administrative Controls,” Section 5.5, “Programs and Manuals,” by eliminating the “Inservice Testing Program” specification. Requirements in the IST program are removed, as they are duplicative of requirements in the ASME OM Code [American Society of Mechanical Engineers Code for Operation and Maintenance of Nuclear Power Plants], as clarified by Code Case OMN-20, “Inservice Test Frequency.” Other requirements in the Section 5.5 IST Program are eliminated because the NRC has determined their inclusion in the TS is contrary to regulations. A new defined term, “Inservice Testing Program,” is added to the TS, which references the requirements of 10 CFR 50.55a(f). The proposed change also revises the SR Section 3.0, “SR Applicability,” Bases to explain the application of the usage rules to the Section 5.5 testing requirements.

Performance of inservice testing is not an initiator to any accident previously evaluated. As a result, the probability of occurrence of an accident is not significantly affected by the proposed change. Inservice test periods under Code Case OMN-20 are equivalent to the current testing period allowed by the TS with the exception that testing periods greater than 2 years may be extended by up to 6 months to facilitate test scheduling and consideration of plant operating conditions that may not be suitable for performance of the required testing. The testing period extension will not affect the ability of the components to mitigate any accident previously evaluated as the components are required to be operable during the testing period extension. Performance of inservice tests utilizing the allowances in OMN-20 will not significantly affect the reliability of the tested components. As a result, the availability of the affected components, as well as their ability to mitigate the consequences of accidents previously evaluated, is not affected.

The proposed [changes to the] SR 3.0 Bases clarify the appropriate application of the existing TS requirements. Since the proposed change does not significantly affect system Operability, the proposed change will have no significant effect on the initiating events for accidents previously evaluated and will have no significant effect on the ability of the systems to mitigate accidents previously evaluated.

Therefore, the proposed change does not involve a significant increase in the probability or consequences of an accident previously evaluated.

2. Does the proposed change create the possibility of a new or different kind of accident from any accident previously evaluated?

Response: No.

The proposed change does not alter the design or configuration of the plant. The proposed change does not involve a physical alteration of the plant; no new or different kind of equipment will be installed. The proposed change does not alter the types of inservice testing performed. In most cases, the frequency of inservice testing is unchanged. However, the frequency of testing would not result in a new or different kind of accident from any previously evaluated since the testing methods are not altered. The proposed Bases change does not change the Operability requirements for plant systems or the actions taken when plant systems are not operable. The proposed Bases change clarifies the current application of the specifications.

Therefore, the proposed change does not create the possibility of a new or different kind of accident from any previously evaluated.

3. Does the proposed change involve a significant reduction in a margin of safety?

Response: No.

The proposed change eliminates some requirements from the TS in lieu of requirements in the ASME Code, as modified by use of Code Case OMN-20. Compliance with the ASME Code is required by 10 CFR 50.55a. The proposed change also allows inservice tests with periods greater than 2 years to be extended by 6 months to facilitate test scheduling and consideration of plant operating conditions that may not be suitable for performance of the required testing. The testing period extension will not affect the ability of the components to respond to an accident as the components are required to be operable during the testing period extension. The proposed change will eliminate the existing TS SR 3.0.3 allowance to defer performance of missed inservice tests up to the duration of the specified testing period, and instead will require an assessment of the missed test on equipment operability. This assessment will consider the effect on a margin of safety (equipment operability). Should the component be inoperable, the Technical Specifications provide actions to ensure that the margin of safety is protected. The proposed change also eliminates a statement that nothing in the ASME Code should be construed to supersede the requirements of any TS. The NRC has determined that statement to be incorrect. However, elimination of the statement will have no effect on plant operation or safety. The proposed changes to the SR 3.0 Bases clarify the application of the existing TS requirements and, as a result, have no significant effect on a margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Meena K. Khanna.

Exelon Generation Company, LLC and PSEG Nuclear LLC, Docket Nos. 50-277 and 50-278, Peach Bottom Atomic Power Station (PBAPS), Units 2 and 3, York and Lancaster Counties, Pennsylvania

Date of amendment request: December 23, 2015. A publicly-available version is in ADAMS under Accession No. ML15357A250.

Description of amendment request: The amendments would revise Technical Specification (TS) Limiting Condition for Operation (LCO) 3.10.1, to expand its scope to include provisions for temperature excursions greater than 212 degrees Fahrenheit (°F) as a consequence of inservice leak and hydrostatic testing, and as a consequence of scram time testing initiated in conjunction with an inservice leak or hydrostatic test, while considering operational conditions to be in Mode 4. The proposed change is based on NRC-approved Technical Specification Task Force (TSTF) Improved Standard Technical Specifications Change Traveler, TSTF-484, Revision 0, “Use of TS 3.10.1 for Scram Time Testing Activities.”

The NRC staff issued a Notice of Availability for TSTF-484 in the Federal Register on October 27, 2006 (71 FR 63050). The staff also issued a Federal Register notice on August 21, 2006 (71 FR 48561) that provided a model safety evaluation and a model no significant hazards consideration (NSHC) determination that licensees could reference in their plant-specific applications. In its application dated December 23, 2015, the licensee affirmed the applicability of the model NSHC determination for PBAPS, Units 2 and 3.

Basis for proposed NSHC determination: As required by 10 CFR 50.91(a), the licensee has provided its analysis of the issue of NSHC, which is presented below:

Criterion 1: The Proposed Change Does Not Involve a Significant Increase in the Probability or Consequences of an Accident Previously Evaluated

Technical Specifications currently allow for operation at greater than 212 °F while imposing MODE 4 requirements in addition to the secondary containment requirements required to be met. Extending the activities that can apply this allowance will not adversely impact the probability or consequences of an accident previously evaluated.

Therefore, the proposed change does not involve a significant increase in the probability or consequences of an accident previously evaluated.

Criterion 2: The Proposed Change Does Not Create the Possibility of a New or Different Kind of Accident From Any Accident Previously Evaluated

Technical Specifications currently allow for operation at greater than 212 °F while imposing MODE 4 requirements in addition to the secondary containment requirements required to be met. No new operational conditions beyond those currently allowed by LCO 3.10.1 are introduced. The changes do not involve a physical alteration of the plant (i.e., no new or different type of equipment will be installed) or a change in the methods governing normal plant operation. In addition, the changes do not impose any new or different requirements or eliminate any existing requirements. The changes do not alter assumptions made in the safety analysis. The proposed changes are consistent with the safety analysis assumptions and current plant operating practice.

Therefore, the proposed change does not create the possibility of a new or different kind of accident from any accident previously evaluated.

Criterion 3: The Proposed Change Does Not Involve a Significant Reduction in a Margin of Safety

Technical Specifications currently allow for operation at greater than 212 °F while imposing MODE 4 requirements in addition to the secondary containment requirements required to be met. Extending the activities that can apply this allowance will not adversely impact any margin of safety. Allowing completion of inspections and testing and supporting completion of scram time testing initiated in conjunction with an inservice leak or hydrostatic test prior to power operation results in enhanced safe operations by eliminating unnecessary maneuvers to control reactor temperature and pressure.

Therefore, the proposed change does not involve a significant reduction in a margin of safety.

Based on the above, it appears that the three standards of 10 CFR 50.92(c) are satisfied. Therefore, the NRC staff proposes to determine that the amendment request involves NSHC.

Attorney for licensee: Tamra Domeyer, Associate General Counsel, Exelon Generation Company, LLC, 4300 Winfield Rd., Warrenville, IL 60555.

NRC Branch Chief: Douglas A. Broaddus.

Exelon Generation Company, LLC, Docket Nos. 50-237 and 50-249, Dresden Nuclear Power Station, Units 2 and 3, Grundy County, Illinois

Date of amendment request: December 14, 2015. A publicly-available version is in ADAMS under Accession No. ML15348A224.

Description of amendment request: The amendment proposes to revise the technical specifications to increase the minimum required fuel oil in each standby diesel generator (DG) fuel oil day tank.

Basis for proposed no significant hazards consideration determination: As required by 10 CFR 50.91(a), the licensee has provided its analysis of the issue of no significant hazards consideration, which is presented below:

1. Does the proposed change involve a significant increase in the probability or consequences of an accident previously evaluated?

Response: No.

The proposed change does not increase the probability or the consequences of an accident previously evaluated. The DGs and their associated emergency buses function to mitigate accidents. The proposed change does not involve a change in the operational limits or the design of the electrical power systems, change the function or operation of plant equipment, or affect the response of that equipment when called upon to operate.

The proposed change to TS SR 3.8.1.4 confirms the minimum supply of fuel oil in each DG fuel oil day tank. The minimum value for the affected parameter is being increased in the conservative direction and assures the DGs' ability to fulfill their safety function.

Therefore, based on the discussion above, the proposed change does not involve a significant increase in the probability or consequences of an accident previously evaluated.

2. Does the proposed change create the possibility of a new or different kind of accident from any accident previously evaluated?

Response: No.

The proposed change does not involve a change in the operational limits or the design capabilities of the electrical power systems. The proposed change does not alter the function or operation of plant equipment or introduce any new failure mechanisms. The evaluation that supports this request included a review of the DG fuel oil system to which this parameter applies.

Therefore, this change will not create the possibility of a new or different kind of accident from any accident previously evaluated.

3. Does the proposed change involve a significant reduction in a margin of safety?

Response: No.

Margins of safety are related to the confidence in the ability of the fission product barriers to perform their design functions during and following an accident. These barriers include the fuel cladding, the reactor coolant system, and the containment systems. Since the proposed change does not adversely affect the operation of any plant equipment, including equipment credited in protecting the fission product barriers, operation in the proposed manner will not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Acting Branch Chief: Justin C. Poole.

Omaha Public Power District, Docket No. 50-285, Fort Calhoun Station (FCS), Unit No. 1, Washington County, Nebraska

Date of amendment request: August 31, 2015, as superseded by letter dated December 23, 2015. Publicly-available versions are in ADAMS under Accession Nos. ML15243A167 and ML15363A042, respectively.

Description of amendment request: The licensee proposes to revise the FCS Updated Safety Analysis Report (USAR) to change the structural design methodology for Class I structures at FCS to use American Concrete Institute (ACI) ultimate strength requirements, with the exception of the containment structure (cylinder, dome, and base mat), the spent fuel pool, and the foundation mats. No change to the current licensing basis code of record is proposed for the excepted structures.

Basis for proposed no significant hazards consideration determination: As required by 10 CFR 50.91(a), the licensee has provided its analysis of the issue of no significant hazards consideration, which is presented below:

1. Does the proposed amendment involve a significant increase in the probability or consequences of an accident previously evaluated?

Response: No.

This LAR [license amendment request] revises the methodology used to design new or re-evaluate existing Class I structures other than the containment structure (cylinder, dome, and base mat), the spent fuel pool (SFP), and the foundation mats. These structures will continue to utilize the current license basis and thus are not affected by this change. The proposed change allows other Class I structures to apply the ultimate strength design (USD) method from the ACI 318-63 Code for normal operating/service load combinations.

The ACI USD method is an accepted industry standard used for the design and analysis of reinforced concrete. A change in the methodology that an analysis uses to verify structure qualifications does not have any impact on the probability of accidents previously evaluated. Designs performed with the ACI USD method will continue to demonstrate that the Class I structures meet industry accepted ACI Code requirements. This LAR does not propose changes to the no loss-of-function loads, loading combinations, or required ultimate strength capacity.

Calculations that apply the limit design method and use dynamic increase factors (DIF) of ACI 349-97, Appendix C will demonstrate that the concrete structures meet required design criteria. Therefore, these proposed changes will not pose a significant increase in the probability or consequences of an accident previously evaluated.

The use of actual concrete strength based on original test data for the areas identified in Section 2.2 of this document and the use of 10% higher steel yield strength for the reactor cavity and compartment (RC&C) and containment internal structures (CIS) maintain adequate structural capacity. As such, these proposed changes do not pose a significant increase in the probability or consequences of an accident previously evaluated because the revised strength values are determined based on actual original test data using a high level of confidence.

The controlled hydrostatic load is changed from live load to dead load for ultimate strength design in the definition. This is consistent with ACI-349-97 and therefore does not pose a significant increase in the probability or consequences of an accident previously evaluated.

Therefore, the proposed changes do not involve a significant increase in the probability or consequences of an accident previously evaluated.

2. Does the proposed amendment create the possibility of a new or different kind of accident from any accident previously evaluated?

Response: No.

This LAR proposes no physical change to any plant system, structure, or component (SSC). Similarly, no changes to plant operating practices, operating procedures, computer firmware, or computer software are proposed. This LAR does not propose changes to the design loads used to design Class I structures. Application of the new methodology to the design or evaluation of Class I structures will continue to ensure that those structures will adequately house and protect equipment important to safety.

Calculations that use the ACI USD method for normal operating/service load combinations will continue to demonstrate that the concrete structures meet required design criteria. Calculations that apply the limit design method and use dynamic increase factors (DIF) of ACI 349-97, Appendix C will demonstrate that the concrete structures meet required design criteria. Use of the actual compressive strength of concrete based on 28-day test data (not age hardening) is permitted by the ACI 318-63 Code and ensures that the concrete structure is capable of performing its design function without alteration or compensatory actions of any kind. A 10% higher steel yield has minimal reduction on design margin for the RC&C or the CIS. The controlled hydrostatic load is changed from live load to dead load for ultimate strength design in the definition which is consistent with ACI-349-97.

The use of these alternative methodologies for qualifying Class I structures does not have a negative impact on the ability of the structure or its components to house and protect equipment important to safety and thus, does not create the possibility of a new or different kind of accident from any previously evaluated.

3. Does the proposed amendment involve a significant reduction in a margin of safety?

Response: No.

The proposed change is for the design of new or re-analysis of existing Class I structures with the exception of the containment structure, the spent fuel pool, and the foundation mats for which no change to the current licensing basis (CLB) is proposed.

Utilization of the ACI 318-63 Code USD method applies only to the normal operating/service load cases and is already part of the CLB for no loss-of-function load cases. No changes to design basis loads are proposed; therefore, new designs or re-evaluations of existing Class I structures shall still prove capable of coping with design basis loads.

Use of the actual compressive strength of concrete based on 28-day test data (not age hardening) is justified and further constrained by limiting its application to areas where the concrete is not exposed to harsh conditions. ACI 349-97, Appendix C is an accepted design code used in the nuclear industry. Calculations using DIFs per ACI 349-97, Appendix C must demonstrate that the Class I structures continue to meet an appropriate design code widely used in the nuclear industry. The use of a 10% higher steel yield was conservatively derived from original test data and has minimal reduction on design margin for the RC&C or the CIS. The controlled hydrostatic load is changed from live load to dead load for ultimate strength design in the definition which is consistent with ACI-349-97.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: David A. Repka, Esq., Winston & Strawn, 1700 K Street NW., Washington, DC 20006-3817.

NRC Branch Chief: Robert J. Pascarelli.

Tennessee Valley Authority, Docket No. 50-391, Watts Bar Nuclear Plant (WBN), Unit 2, Rhea County, Tennessee

Date of amendment request: December 31, 2015. A publicly-available version is in ADAMS under Accession No. ML15365A595.

Description of amendment request: The amendment would revise License Condition 2.C(4) to permit the use of the Fuel Rod Performance and Design 4 Thermal Conductivity Degradation (PAD4TCD) computer program for the second cycle of plant operation.

Basis for proposed no significant hazards consideration determination: As required by 10 CFR 50.91(a), the licensee has provided its analysis of the issue of no significant hazards consideration, which is presented below, with NRC staff revisions provided in [brackets]:

1. Does the proposed amendment involve a significant increase in the probability or consequence of an accident previously evaluated?

Response: No.

The Emergency Core Cooling System (ECCS) response to a large break Loss-of-Coolant Accident (LOCA) as described in the WBN Unit 2 Final Safety Analysis Report (FSAR) Chapter 15 incorporated an explicit evaluation of the effects of Thermal Conductivity Degradation (TCD). The FSAR evaluation considered fuel burn-up values that represent multi-cycle cores where the effects of TCD would be more evident. These analyses showed that the calculated peak clad temperature was 1776 °F [degrees Fahrenheit] which provides a large margin to the regulatory limit specified in 10 CFR 50.46 of 2200 °F.

The change to License Condition 2.C(4) does not change the safety analysis or any plant feature or design. Thus it is concluded that a significant increase in the consequences of an accident previously evaluated will not occur as a result of the proposed change.

Therefore, the proposed change does not involve a significant increase in the probability or consequences of an accident previously evaluated.

2. Does the proposed amendment create the possibility of a new or different kind of accident from any accident previously evaluated?

Response: No.

The proposed change does not create the possibility of a new or different kind of accident from any accident previously evaluated. The proposed change to [L]icense [C]ondition 2.C(4) does not change or modify the plant design, introduce any new modes of plant operation, change or modify the design of the ECCS, or change or modify the accident analyses presented in the WBN Unit 2 FSAR.

Therefore, the proposed change does not create the possibility of a new or different kind of accident from any previously evaluated.

3. Does the proposed amendment involve a significant reduction in a margin of safety?

Response: No.

The safety analyses for WBN Unit 2 described in the FSAR have explicitly accounted for the potential effects of TCD where applicable. The results of these analyses have established that WBN Unit 2 can operate safely and in the unlikely event that a design basis event occurs, there are large margins to the regulatory limits explicitly accounting for TCD. This proposed change to License Condition 2.C(4) does not change these analyses or conclusions.

Thus, the proposed change does not result in a significant reduction in the margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, WT 6A-K, Knoxville, Tennessee 37902.

NRC Branch Chief: Benjamin G. Beasley.

Virginia Electric and Power Company, Docket Nos. 50-338 and 50-339, North Anna Power Station, Unit Nos. 1 and 2 (NAPS), Louisa County, Virginia

Date of amendment request: December 10, 2015. A publicly-available version is in ADAMS under Accession No. ML15352A108.

Description of amendment request: The proposed license amendment would revise Technical Specification (TS) 3.2.1, “Heat Flux Hot Channel Factor FQ(Z)).” Specifically, by relocating required operating space reductions (Power and Axial Flux Difference) to the Core Operating Limits Report, accompanied by verification for each reload cycle; and by defining TS surveillance requirements for steady-state and transient FQ(Z) and corresponding actions with which to apply an appropriate penalty factor to measured results as identified in Westinghouse documents NSAL-09-5, Rev. 1 and NSAL-15-1, Rev. 0 respectively.

Basis for proposed no significant hazards consideration determination: As required by 10 CFR 50.91(a), the licensee has provided its analysis of the issue of no significant hazards consideration, which is presented below:

1. Does the proposed change involve a significant increase in the probability or consequences of an accident previously evaluated?

Response: No.

The proposed change for resolution of Westinghouse notification documents NSAL-09-05, Rev. 1 and NSAL-15-1, Rev. 0 is intended to address deficiencies identified within the existing NAPS Technical Specifications and to return them to their as-designed function. Operation in accordance with the revised TS ensures that the assumptions for initial conditions of key parameter values in the safety analyses remain valid and does not result in actions that would increase the probability or consequences of any accident previously evaluated.

Therefore, the proposed amendment does not involve a significant increase in the probability or the consequences of any accident previously evaluated.

2. Does the proposed change create the possibility of a new or different kind of accident from any accident previously evaluated?

Response: No.

Operation in accordance with the revised TS and its limits precludes new challenges to [structures, systems and components (SSCs)] that might introduce a new type of accident. All design and performance criteria will continue to be met and no new single failure mechanisms will be created. The proposed change for resolution of Westinghouse notification documents NSAL-09-5, Rev. 1 and NSAL-15-1, Rev. 0 does not involve the alteration of plant equipment or introduce unique operational modes or accident precursors. It thus does not create the potential for a different kind of accident.

Therefore, the proposed amendment does not create the possibility of a new or different kind of accident from any accident previously evaluated.

3. Does the proposed change involve a significant reduction in a margin of safety?

Response: No.

Operation in accordance with the revised TS and its limits preserves the margins assumed in the initial conditions for key parameters assumed in the safety analysis. This ensures that all design and performance criteria associated with the safety analysis will continue to be met and that the margin of safety is not affected.

Therefore, the proposed amendment does not involve a significant reduction in a margin of safety.

The NRC staff has reviewed the licensee's analysis and, based on this review, it appears that the three standards of 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: Michael T. Markley.

ZionSolutions, LLC. (ZS), Docket Nos. 50-295 and 50-304, Zion Nuclear Power Station (ZNPS), Units 1 and 2, Lake County, Illinois

Date of amendment request: January 7, 2016. A publicly-available version is in ADAMS under Accession No. ML16008B080.

Description of amendment request: The amendment would approve a revision to the ZNPS Defueled Station Emergency Plan (DSEP) to implement an Independent Spent Fuel Storage Installation (ISFSI)-Only emergency plan. The major proposed changes to the DSEP include the removal of non-ISFSI related emergency event types; transfer of responsibility for implementing the emergency plan to ISFSI Management, and a revised emergency plan organization.

Basis for proposed no significant hazards consideration determination: As required by 10 CFR 50.91(a), the licensee has provided its analysis of the issue of no significant hazards consideration, which is presented below:

1. Does the proposed amendment involve a significant increase in the probability or consequences of an accident previously evaluated?

Response: No.

ZS has, in effect, an NRC-approved emergency plan. The credible accidents involving the ISFSI and [Modular Advanced Generation Nuclear All-Purpose Storage System (MAGNASTOR)] system have been analyzed and determined that none result in doses to the public beyond the owner-controlled boundary (Figure 2-2 of the emergency plan) that would exceed the [U.S. Environmental Protection Agency Protective Action Guides (EPA PAGs)]. These analyses have not changed. With decommissioning completed, the ZNPS site-related accidents previously analyzed are no longer credible.

Therefore, the proposed change does not involve a significant increase in the probability or consequences of an accident from any accident previously evaluated.

2. Does the proposed change create the possibility of a new or different kind of accident from any accident previously evaluated?

Response: No.

ZS has, in effect, an NRC-approved emergency plan. The credible accidents involving the ISFSI and MAGNASTOR system have been analyzed and determined that none result in doses to the public beyond the owner-controlled boundary that would exceed the EPA PAGs. With decommissioning substantially completed (Safe Transition to an ISFSI only [emergency plan] is contingent on reducing plant side curie content to a level where a credible scenario no longer exists which could trigger a plant side Emergency Action Level (EAL) Threshold Value. Safe Transition will be a bounding number based on a calculated value of plant side curie inventory and will occur prior to the completion of decommissioning sometime in late 2016 or early 2017); the ZNPS site accidents previously analyzed are no longer credible. Accidents associated with the ISFSI are addressed in the MAGNASTOR [Final Safety Analysis Report (FSAR)].

Therefore, the proposed change does not create the possibility of a new or different kind of accident from any accident previously evaluated.

3. Does the proposed amendment involve a significant reduction in a margin of safety?

Response: No.

Margin of safety is related to the ability of the fission product barriers (fuel cladding, primary containment) to perform their design functions during and following postulated accidents. ZS has, in effect, an NRC-approved emergency plan. The credible accidents involving the ISFSI and MAGNASTOR system have been analyzed and determined that none result in doses to the public beyond the owner-controlled boundary that would exceed the EPA PAGs. With spent fuel located at the ISFSI and decommissioning substantially completed, the ZNPS plant-related accidents previously analyzed are no longer credible.

Therefore, the proposed amendment does not involve a significant reduction in the margin of safety.

The NRC staff has reviewed the licensee's analysis and, based on this review, it appears that the three standards of 50.92(c) are satisfied. Therefore, the NRC staff proposes to determine that the amendment request involves no significant hazards consideration.

Attorney for licensee: Russ Workman, Deputy General Counsel, EnergySolutions, 423 West 300 South, Suite 200, Salt Lake City, UT 84101.

NRC Branch Chief: Bruce A. Watson, CHP.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket No. 50-369, McGuire Nuclear Station, Unit 1, Mecklenburg County, North Carolina

Date of amendment request: August 28, 2015, as supplemented by letter dated November 13, 2015.

Brief description of amendment: The amendment provides a temporary extension to the Completion Time for Technical Specification 3.5.2, “ECCS [Emergency Core Cooling Systems]—Operating,” Condition A. The temporary extension will be used to allow the licensee to effect an on-line repair of the Residual Heat Removal (RHR) pump motor air handling unit.

Date of issuance: February 3, 2016.

Effective date: As of the date of issuance and shall be implemented within 30 days of issuance.

Amendment No.: 281. A publicly-available version is in ADAMS under Accession No. ML16004A352; documents related to these amendments are listed in the Safety Evaluation enclosed with the amendments.

Facility Operating License No. NPF-9: Amendment revised the Facility Operating License and Technical Specifications.

Date of initial notice in Federal Register: October 27, 2015 (80 FR 65810). The supplemental letter dated November 13, 2015, provided additional information that clarified the application, did not expand the scope of the application as originally noticed, and did not change the staff's original proposed no significant hazards consideration determination as published in the Federal Register.

The Commission's related evaluation of the amendment is contained in a Safety Evaluation dated February 3, 2016.

No significant hazards consideration comments received: No.

Duke Energy Progress, Inc., Docket Nos. 50-325 and 50-324, Brunswick Steam Electric Plant, Units 1 and 2, Brunswick County, North Carolina

Date of amendment request: February 19, 2015, as supplemented by letter dated November 5, 2015.

Description of amendment request: The amendments revised (1) technical specifications (TSs) by replacing AREVA Topical Report ANP-10298PA, “ACE/ATRIUM 10XM Critical Power Correlation,” Revision 0, March 2010, with Revision 1, March 2014, of the same topical report; and (2) Appendix B, “Additional Conditions,” by removing the license condition issued by Amendment Nos. 262 and 290 for Units 1 and Unit 2, respectively.

Date of issuance: February 9, 2016.

Effective date: Once approved, the Unit 1 amendment shall be implemented prior to start-up from the 2016 Unit 1 refueling outage, and the Unit 2 amendment shall be implemented prior to start-up from the 2017 Unit 2 refueling outage.

Amendment Nos.: 269 and 297. A publicly-available version is in ADAMS under Accession No. ML16019A029; documents related to these amendments are listed in the Safety Evaluation enclosed with the amendments.

Facility Operating License Nos. DPR-71, and DPR-62: Amendments revised the renewed facility operating licenses and TSs.

Date of initial notice in Federal Register: April 28, 2015 (80 FR 23603). The supplemental letter dated November 5, 2015, provided additional information that clarified the application, did not expand the scope of the application as originally noticed, and did not change the staff's original proposed no significant hazards consideration determination as published in the Federal Register.

The Commission's related evaluation of the amendment is contained in a Safety Evaluation dated February 9, 2016.

No significant hazards consideration comments received: No.

Energy Northwest, Docket No. 50-397, Columbia Generating Station (CGS), Benton County, Washington

Date of application for amendment: August 12, 2014, as supplemented by letters dated September 4, 2014, and April 3 and August 11, 2015.

Brief description of amendment: The amendment revised the CGS Technical Specifications (TSs) to risk-inform requirements regarding selected Required Actions end states by incorporating Technical Specification Task Force (TSTF) Change Traveler TSTF-423, Revision 1, “Technical Specification End States, NEDC-32988-A.” The Notice of Availability for TSTF-423, Revision 1, was published in the Federal Register on February 18, 2011 (76 FR 9164).

Date of issuance: February 3, 2016.

Effective date: As of its date of issuance and shall be implemented within 60 days from the date of issuance.

Amendment No.: 236. A publicly-available version is in ADAMS under Accession No. ML15216A266; documents related to this amendment are listed in the Safety Evaluation enclosed with the amendment.

Renewed Facility Operating License No. NPF-21: The amendment revised the Facility Operating License and TSs.

Date of initial notice in Federal Register: November 12, 2014 (79 FR 67200). The supplemental letters dated April 3 and August 11, 2015, provided additional information that clarified the application, did not expand the scope of the application as originally noticed, and did not change the staff's original proposed no significant hazards consideration determination as published in the Federal Register.

The Commission's related evaluation of the amendment is contained in a Safety Evaluation dated February 3, 2016.

No significant hazards consideration comments received: No.

Exelon Generation Company, LLC and PSEG Nuclear LLC, Docket No. 50-277, Peach Bottom Atomic Power Station (PBAPS), Unit 2, York and Lancaster Counties, Pennsylvania

Date amendment request: December 5, 2014, as supplemented by letter dated April 30, 2015.

Brief description of amendment: The amendment revised the Technical Specifications (TSs) related to the Safety Limit Minimum Critical Power Ratios. The changes resulted from a cycle-specific analysis performed to support the operation of PBAPS, Unit 2, in the current Cycle 21. The re-analysis was performed to accommodate operation in the Maximum Extended Load Line Limit Analysis Plus (MELLLA+) operating domain based on a separate license amendment request dated September 4, 2014.

Date of issuance: February 8, 2016.

Effective date: As of the date of issuance, and shall be implemented prior to operation in the MELLLA+ operating domain.

Amendment No.: 304. A publicly-available version is in ADAMS under Accession No. ML15343A165; documents related to this amendment are listed in the Safety Evaluation enclosed with the amendment.

Renewed Facility Operating License No. DPR-44: Amendment revised the Renewed Facility Operating License and TSs.

Date of initial notice in Federal Register: March 3, 2015 (80 FR 11495). The supplemental letter dated April 30, 2015, provided information that clarified the application, did not expand the scope of the application as originally noticed, and did not change the staff's original proposed no significant hazards consideration determination as published in the Federal Register.

The Commission's related evaluation of the amendment is contained in a Safety Evaluation dated February 8, 2016.

No significant hazards consideration comments received: No.

Exelon Generation Company, LLC and PSEG Nuclear LLC, Docket No. 50-278, Peach Bottom Atomic Power Station (PBAPS), Unit 3, York and Lancaster Counties, Pennsylvania

Date amendment request: April 30, 2015, as supplemented by letter dated August 6, 2015.

Brief description of amendment: The amendment revised the Technical Specifications (TSs) related to the Safety Limit Minimum Critical Power Ratios. The changes resulted from a cycle-specific analysis performed to support the operation of PBAPS, Unit 3, in the current Cycle 21. The re-analysis was performed to accommodate operation in the Maximum Extended Load Line Limit Analysis Plus (MELLLA+) operating domain based on a separate license amendment request dated September 4, 2014.

Date of issuance: February 8, 2016.

Effective date: As of the date of issuance, and shall be implemented prior to operation in the MELLLA+ operating domain.

Amendment No.: 308. A publicly-available version is in ADAMS under Accession No. ML15343A177; documents related to this amendment are listed in the Safety Evaluation enclosed with the amendment.

Renewed Facility Operating License No. DPR-56: Amendment revised the Renewed Facility Operating License and TSs.

Date of initial notice in Federal Register: July 7, 2015 (80 FR 38773). The supplemental letter dated August 6, 2015, provided information that clarified the application, did not expand the scope of the application as originally noticed, and did not change the staff's original proposed no significant hazards consideration determination as published in the Federal Register.

The Commission's related evaluation of the amendment is contained in a Safety Evaluation dated February 8, 2016.

No significant hazards consideration comments received: No.

Southern Nuclear Operating Company, Docket Nos. 52-025 and 52-026, Vogtle Electric Generating Plant (VEGP), Units 3 and 4, Burke County, Georgia

Date of amendment request: July 30, 2014, and supplemented by letters dated December 12, 2014, and July 20, 2015.

Description of amendment: The amendment authorizes changes to the VEGP Units 3 and 4 Updated Final Safety Analysis Report (USFAR) in the form of departures from the incorporated plant-specific Design Control Document Tier 2* information. The proposed amendment would allow changes to correct editorial errors and promote consistency with the UFSAR Tier 1 and 2 information.

Date of issuance: February 1, 2016.

Effective date: As of the date of issuance and shall be implemented within 30 days of issuance.

Amendment No.: 45. A publicly-available version is in ADAMS under Accession No. ML15335A060; documents related to this amendment are listed in the Safety Evaluation enclosed with the amendment.

Facility Combined Licenses No. NPF-91 and NPF-92: Amendment revised the Facility Combined Licenses.

Date of initial notice in Federal Register: September 30, 2014 (79 FR 58812). The supplemental letters dated December 12, 2014, and July 20, 2015, provided additional information that clarified the application, did not expand the scope of the application as originally noticed, and did not change the staff's original proposed no significant hazards consideration determination as published in the Federal Register.

The Commission's related evaluation of the amendment is contained in the Safety Evaluation dated February 1, 2016.

No significant hazards consideration comments received: No.

Tennessee Valley Authority, Docket No. 50-296, Browns Ferry Nuclear Plant, Unit 3, Limestone County, Alabama

Date of amendment request: March 6, 2015, as supplemented by letter dated July 7, 2015.

Brief description of amendment: The amendment revised the Technical Specification (TS) Safety Limit Minimum Critical Power Ratio (SLMCPR) numeric values. The change decreased the numeric values of SLMCPR in TS Section 2.1.1.2 for single and two reactor recirculation loop operation based on the Cycle 18 SLMCPR evaluation.

Date of issuance: February 9, 2016.

Effective date: As of the date of issuance and shall be implemented within 60 days of issuance.

Amendment No.: 279. A publicly-available version is in ADAMS under Accession No. ML15317A478; documents related to these amendments are listed in the Safety Evaluation enclosed with the amendment.

Renewed Facility Operating License No. DPR-68: Amendment revised the Facility Operating License and TS.

Date of initial notice in Federal Register: July 7, 2015 (80 FR 38777). The supplemental letter dated July 7, 2015, provided additional information that clarified the application, did not expand the scope of the application as originally noticed, and did not change the staff's original proposed no significant hazards consideration determination as published in the Federal Register.

The Commission's related evaluation of the amendments is contained in a Safety Evaluation dated February 9, 2016.

No significant hazards consideration comments received: No.

Union Electric Company, Docket No. 50-483, Callaway Plant, Unit 1, Callaway County, Missouri

Date of application for amendment: March 9, 2015, as supplemented by letters dated April 8, August 12, and December 10, 2015.

Brief description of amendment: The amendment revised Technical Specification (TS) requirements regarding steam generator tube inspections and reporting as described in TS Task Force (TSTF) traveler TSTF-510, Revision 2, “Revision to Steam Generator Program Inspection Frequencies and Tube Sample Selection,” with some minor administrative differences.

Date of issuance: February 2, 2016.

Effective date: As of its date of issuance and shall be implemented within 90 days from the date of issuance.

Amendment No.: 215. A publicly-available version is in ADAMS under Accession No. ML15324A114; documents related to this amendment are listed in the Safety Evaluation enclosed with the amendment.

Renewed Facility Operating License No. NPF-30: The amendment revised the Operating License and TSs.

Date of initial notice in Federal Register: June 9, 2015 (80 FR 32630). The supplemental letters dated August 12 and December 10, 2015, provided additional information that clarified the application, did not expand the scope of the application as originally noticed, and did not change the staff's original proposed no significant hazards consideration determination as published in the Federal Register.

The Commission's related evaluation of the amendment is contained in a Safety Evaluation dated February 2, 2016.

No significant hazards consideration comments received: No.

Virginia Electric and Power Company, Docket Nos. 50-338 and 50-339, North Anna Power Station, Units 1 and 2, Louisa County, Virginia

Date of amendment request: May 4, 2015, as supplemented by letter dated August 5, 2015.

Description of amendment request: The proposed amendments authorize modification of the Emergency Action Level (EAL) Technical Basis Document, EAL RA2.1, to revise the instrumentation used to classify an event under this EAL. Specifically, this would correct the equipment identification number from the “GW-RI-178-1 Process Vent Normal Range” monitor to the “VG-RI-180-1 Vent Stack `B' Normal Range” monitor for Initiating Condition RA2, EAL RA2.1.

Date of issuance: January 21, 2016.

Effective date: As of the date of issuance and shall be implemented within 90 days from the date of issuance.

Amendment Nos.: 277 and 259. A publicly-available version is in ADAMS under Accession No. ML15307A300; documents related to these amendments are listed in the Safety Evaluation enclosed with these amendments.

Renewed Facility Operating License Nos. NPF-4 and NPF-7: Amendments changed the licenses.

Date of initial notice in Federal Register: July 7, 2015 (80 FR 38764). The supplemental letter dated August 5, 2015, provided additional information that clarified the application, did not expand the scope of the application as originally noticed, and did not change the staff's original proposed no significant hazards consideration determination.

The Commission's related evaluation of the amendments is contained in a Safety Evaluation dated January 21, 2016.

No significant hazards consideration comments received: Yes.

Dated at Rockville, Maryland, this 22nd day of February 2016.
For the Nuclear Regulatory Commission.
Anne T. Boland,
Director, Division of Operating Reactor Licensing, Office of Nuclear Reactor Regulation.

[FR Doc. 2016-04346 Filed 2-29-16; 8:45 am]

BILLING CODE 7590-01-P